FEDERAL COMMUNICATIONS COMMISSION

[IB Docket No. 04-286; DA 10-1884]

Sixth Meeting of the Advisory Committee for the 2012 World Radiocommunication Conference

AGENCY: Federal Communications Commission.

ACTION: Notice.

SUMMARY: In accordance with the Federal Advisory Committee Act, as amended, this notice advises interested persons that the sixth meeting of the WRC-12 Advisory Committee will be held at the Federal Communications Commission. The purpose of the meeting is to continue preparations for the 2012 World Radiocommunication Conference. The WRC-12 Advisory Committee will consider any preliminary views and draft proposals introduced by the WRC-12 Advisory Committee's Informal Working Groups.

DATES: October 26, 2010, 11 a.m. to 12 noon.

ADDRESSES: Federal Communications Commission, 445 12th Street, SW., Room TW-C305, Washington, DC 20554.

FOR FURTHER INFORMATION CONTACT: Alexander Roytblat, Designated Federal Official, WRC-12 Advisory Committee, FCC International Bureau, Strategic Analysis and Negotiations Division, at (202) 418-7501.

SUPPLEMENTARY INFORMATION: The Federal Communications Commission established the WRC-12 Advisory Committee to provide advice, technical support and recommendations relating to the preparation of United States proposals and positions for the 2012 World Radiocommunication Conference (WRC-12).

In accordance with the Federal Advisory Committee Act, Public Law 92-463, as amended, this notice advises interested persons of the sixth meeting of the WRC-12 Advisory Committee. The WRC-12 Advisory Committee has an open membership. All interested parties are invited to participate in the WRC-12 Advisory Committee and to attend its meetings. The proposed agenda for the sixth meeting is as follows:

Agenda

Sixth Meeting of the WRC-12 Advisory Committee, Federal Communications Commission, 445 12th Street, SW., Room TW-C305, Washington, DC 20554, October 26, 2010, 11 a.m. to 12 noon.

1. Opening Remarks.

2. Approval of Agenda.

3. Approval of the Minutes of the Fifth Meeting.

4. Informal Working Group Reports and Documents Relating to Preliminary Views

and Draft Proposals.

5. Future Meetings.

6. Other Business.

Federal Communications Commission.
Roderick K. Porter,
Deputy Chief, International Bureau.

[FR Doc. 2010-25196 Filed 10-5-10; 8:45 am]

BILLING CODE 6712-01-P